DEPARTMENT OF JUSTICE

Antitrust Division

Notice Pursuant to the National Cooperative Research and Production Act of 1993—SEMATECH, Inc. d/b/a International SEMATECH

Notice is hereby given that, on June 16, 2003, pursuant to Section 6(a) of the National Cooperative Research and Production Act of 1993, 15 U.S.C. 4301 et seq. (“the Act”), SEMATECH Inc. (which is doing business as International SEMATECH) has filed written notifications simultaneously with the Attorney General and the Federal Trade Commission disclosing changes in its membership and project status. The notifications were filed for the purpose of extending the Act's provisions limiting the recovery of antitrust plaintiffs to actual damages under specified circumstances.

With respect to membership status, Hynix Semiconductor Inc. (formerly known as Hyundai Electronics Industries Company, Ltd.), Kyoungki-do, REPUBLIC OF KOREA; and STMicroelectronics, Geneva, SWITZERLAND have been dropped as parties to this venture.

The scope of the venture has expanded through a new program called the Research and Development (R&D) Foundry. The nature and objectives of the R&D Foundry are to make International SEMATECH's Advanced Technology Development Facility (“ATDF”) available for customized programs and advanced R&D on fee-for-project basis. R&D Foundry customers can be International SEMATECH members, universities, equipment suppliers and other third parties in the industry (including non-member chip makers). Fees from R&D Foundry projects will be used to offset the expense of operating the ATDF. The R&D Foundry customer may be given exclusive access at certain times to tools in the ATDF and, depending on the nature of the project, may have a dedicated area in which to conduct ongoing research. Alternatively, International SEMATECH ATDF employees will perform the work for the R&D Foundry customer. International SEMATECH will provide personnel to manage the R&D Foundry projects. International SEMATECH personnel costs and other costs related to R&D Foundry activities will be separately accounted for. If an International SEMATECH member is also an R&D Foundry customer, its R&D Foundry fee will not be counted toward International SEMATECH membership dues. The R&D Foundry customer will have exclusive access to and ownership of most of the intellectual property (“IP”) resulting from its project.

No other changes have been made in either the membership or planned activity of the group research project. Membership in this group research project remains open, and International SEMATECH intends to file additional written notification disclosing all changes in membership.

On April 22, 1988, International SEMATECH filed its original notification pursuant to Section 6(a) of the Act. The Department of Justice published a notice in the Federal Register pursuant to Section 6(b) of the Act on May 19, 1988 (53 FR 17987).

The last notification was filed with the Department on January 19, 2001. A notice was published in the Federal Register pursuant to section 6(b) of the Act on April 24, 2001 (66 FR 20686).

Constance K. Robinson,
Director of Operations, Antitrust Division.

[FR Doc. 03-19671 Filed 8-01-03; 8:45 am]

BILLING CODE 4410-11-M